DEPARTMENT OF THE INTERIOR

National Park Service

[NPS-WASO-NAGPRA-NPS0037674; PPWOCRADN0-PCU00RP14.R50000]

Notice of Intended Repatriation: Memphis Museum of Science and History, Memphis, TN

Correction

In notice document 2024- 07360, appearing on pages 24495-24496 in the issue of April 8, February 28, 2024, make the following correction:

On page 24496, in the first column, on the 8th line from the top, “733arilyn.masler@memphistn.gov” is corrected to read “marilyn.masler@memphistn.gov.”

[FR Doc. C1-2024-07360 Filed 4-26-24; 8:45 am]

BILLING CODE 0099-10-P